DEPARTMENT OF THE INTERIOR

Bureau of Reclamation

Final Environmental Impact Report/Environmental Impact Statement for Upper Truckee River Restoration and Golf Course Reconfiguration Project

AGENCY: Bureau of Reclamation, Interior.

ACTION: Notice of availability.

SUMMARY: The final Environmental Impact Report/Environmental Impact Statement for the Upper Truckee River Restoration and Golf Course Reconfiguration Project is available for public review and comment. The Bureau of Reclamation, the California Department of Parks and Recreation, and the Tahoe Regional Planning Agency have evaluated comments and are recommending a preferred alternative for approval. The preferred alternative includes river ecosystem restoration with a reconfigured 18-hole golf course.

DATES: Reclamation will complete a Record of Decision at least 30 days from publication of the final Environmental Impact Report/Environmental Impact Statement.

ADDRESSES: The final Environmental Impact Report/Environmental Impact Statement is accessible at the following Web sites:

• http://www.restoreuppertruckee.net/index.htm.

• http://www.parks.ca.gov/?page_id=981 (click on El Dorado County).

• http://www.trpa.org.

• http://www.usbr.gov/mp/nepa/nepa_projdetails.cfm?Project_ID=5760.

The final Environmental Impact Report/Environmental Impact Statement is available for review by the public during normal business hours at the following locations:

• California State Parks' Administrative office at Sugarpine Point State Park, 7360 West Lake Boulevard, Tahoma, CA 96142.

• Tahoe Regional Planning Agency front desk, 128 Market Street, Stateline, NV 89449.

• Mid-Pacific Regional Library, Bureau of Reclamation, 2800 Cottage Way, Sacramento, CA 95825.

• South Lake Tahoe Library front desk, 1000 Rufus Allen Boulevard, South Lake Tahoe, CA 96150.

Hard copies can be printed for purchase at Staples, 2061 Lake Tahoe Boulevard, South Lake Tahoe, CA 96150. CDs are also available upon request by e-mail from California State Parks at: utproject@parks.ca.gov.

FOR FURTHER INFORMATION CONTACT: Cyndie Walck, California State Parks, 530-581-0925; Brian Judge, TRPA, 775-589-5262; or Myrnie Mayville, Reclamation, 775-589-5240.

SUPPLEMENTARY INFORMATION: The purposes of this project are:

• To improve geomorphic processes, ecological functions, and habitat values of the Upper Truckee River within the study area;

• To reduce the river's discharge of nutrients and sediment that diminish Lake Tahoe's clarity; and

• To provide access to public recreation opportunities in Washoe Meadows State Park and Lake Valley State Recreation Area.

The 520-acre study area is just north of Meyers and south of the City of South Lake Tahoe, within El Dorado County, California. It includes the southern portion of Washoe Meadows State Park, Lake Valley State Recreation Area, and small portions of U.S. Forest Service and California Tahoe Conservancy lands, as well as a 2.24-mile reach of the Upper Truckee River.

The project partners (the Bureau of Reclamation, the California Department of Parks and Recreation, and the Tahoe Regional Planning Agency) worked with a team of technical consultants to develop five alternatives for the reconfiguration project. These alternatives are the product of extensive review of comments on the notice of preparation and notice of intent, as well as comments provided at public scoping meetings and a recreation planning workshop conducted for additional public input. The project partners presented the five alternatives for public review during circulation of the draft Environmental Impact Report/Environmental Impact Statement (EIR/EIS). The draft EIR/EIS includes detailed analysis of a reasonable range of alternatives, including a no-action alternative. (Other alternatives proved to be unsuitable for detailed study.)

The five alternatives include four action alternatives (alternatives 2-5), and the no-project/no-action alternative (alternative 1). For alternative 1, the river restoration and changes to the golf course would not be implemented. This alternative represents a projection of reasonably foreseeable future conditions that could occur if no project actions were implemented.

Alternative 2 would involve restoration of the Upper Truckee River with a reconfigured 18-hole regulation golf course. Alternative 3 would involve similar river restoration, but providing only a reduced-play (9-hole or executive) golf course. Alternative 4 would use a combination of hard and soft stabilization to keep the river in its present configuration and includes only minor changes to the existing 18-hole regulation golf course. Alternative 5 would involve decommissioning and removing the 18-hole regulation golf course to restore all or a portion of the golf course landscape to meadow and riparian habitat.

To select the preferred alternative, the project partners screened the five alternatives using two types of criteria:

• Criteria related to the project purpose, need, and goals, and objectives; and

• Criteria related to geomorphology, ecology, water quality, recreation, operations, engineering, and revenue.

The preferred alternative is a slightly modified version of alternative 2 with river restoration and an 18-hole regulation golf course. The quarry restoration was removed after further assessment because California State Parks found that the area was recovering on its own and restoration was not needed. There have been some slight modifications to the trail layout in the golf course area. Acreages have changed due to acreage errors in the draft EIR/EIS as well as to bring part of the sewer access road into the State Recreation Area, and to allow for some potential minor modifications in the final golf course layout. The final EIR/EIS contains a complete description of the preferred alternative.

A notice of availability announcing the release of the draft EIR/EIS was published in the Federal Register on August 25, 2010 (75 FR 52360). The written comment period on the draft EIR/EIS ended November 4, 2010. The final EIR/EIS contains responses to all comments received and reflects comments and any additional information received during the review period.

Notice of the final EIR/EIS is being distributed to interested agencies, stakeholder organizations, and individuals. The next steps in the process are as follows:

• About one week after the release of the final EIR/EIS, the Environmental Protection Agency will include the EIR/EIS on the weekly list published in the Federal Register.

• 30 days or more after the Environmental Protection Agency publishes the list, Reclamation will complete a Record of Decision. The Record of Decision will state the action that will be implemented and will discuss all factors leading to the decision.

• In late fall 2011, the California Parks and Recreation Commission will consider the General Plan amendment.

• Sometime after the California Commission's decision, the Tahoe Regional Planning Agency Governing Board will consider approval.

Dates for the Park Commission and Planning Agency meetings will be posted on the following California State Parks Web site: http://www.restoreuppertruckee.net.

Public Disclosure

Before including your name, address, phone number, e-mail address, or other personal identifying information in any correspondence, you should be aware that your entire correspondence—including your personal identifying information—may be made publicly available at any time. While you may ask us in your correspondence to withhold your personal identifying information from public review, we cannot guarantee that we will be able to do so.

Dated: September 15, 2011.
Pablo R. Arroyave,
Deputy Regional Director, Mid-Pacific Region.

[FR Doc. 2011-25845 Filed 10-6-11; 8:45 am]

BILLING CODE 4310-MN-P